DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: 2011 National Survey on Drug Use and Health (OMB No. 0930-0110)—Revision

The National Survey on Drug Use and Health (NSDUH), formerly the National Household Survey on Drug Abuse (NHSDA) is a survey of the civilian, non-institutionalized population of the United States 12 years old and older. The survey is used to determine the prevalence of use of tobacco products, alcohol, illicit substances, and illicit use of prescription drugs. The survey is also used to collect information on mental health problems and the utilization of substance abuse and mental health services. The results are used by SAMHSA, ONDCP, Federal Government agencies, and other organizations and researchers to establish policy, direct program activities, and better allocate resources.

The 2011 NSDUH will continue conducting a follow-up clinical interview with a subsample of approximately 1,500 respondents. The design of this study is based on the recommendations from a panel of expert consultants convened by SAMHSA's Center for Mental Health Services (CMHS), to discuss mental health surveillance data collection strategies. The goal is to create a statistically sound measure that may be used to estimate the prevalence of Serious Mental Illness (SMI) among adults (age 18+).

For the 2011 NSDUH, no questionnaire changes are proposed.

As with all NSDUH/NHSDA surveys conducted since 1999, the sample size of the survey for 2011 will be sufficient to permit prevalence estimates for each of the 50 States and the District of Columbia.

Because the NSDUH collects data on substance use, mental health and the utilization of substance abuse and mental health services, it is an appropriate and convenient vehicle to measure the impact of the Deepwater Horizon oil spill on residents of that region. Therefore, SAMHSA is planning to expand the NSDUH by oversampling the geographic region impacted by the oil spill. The current NSDUH sample design will be implemented and an oversampling method that results in an additional 2,000 completed interviews in the gulf coast region will be employed. The additional interviews will be concentrated in the coastal counties of Alabama, Florida, Louisiana, and Mississippi. All survey instruments and protocols will be identical for this additional sample. The total number of respondents for the 2011 NSDUH will be 69,500, or 2,000 cases more than the planned sample size for 2010.

Though there will be some increase in the sample for all four States involved in the Deepwater Horizon event (Alabama, Florida, Louisiana, and Mississippi), specific counties in the gulf coast region were chosen for focused over sampling. These counties were chosen based on the following criteria:

• Claims activity to BP for economic and related health needs;

• County involvement with Department of Education and Administration for Children and Families programming; and

• State assessment of impacted counties based on consultation with SAMHSA during the preparation of aid applications.

Counties Designated as the Most Affected Areas
State name | County/Parish name
Alabama | Baldwin, Clarke, Escambia, Mobile, Monroe, and Washington.
Florida | Bay, Escambia, Franklin, Gulf, Okaloosa, Santa Rosa, Wakulla, and Walton.
Louisiana | Iberia, Jefferson, Lafayette, Lafourche, Orleans, Plaquemines, St. Bernard, St. Martin, St. Mary, St. Tammany, Terrebonne, and Vermilion.
Mississippi | George, Hancock, Harrison, Jackson, Pearl River, and Stone.

The total annual burden estimate is shown below:

Instrument | No. of respondents | Responses per respondent | Hours per response | Total burden hours | Hourly wage rate | Annualized hourly costs
Household Screening | 196,720 | 1 | 0.083 | 16,328 | $14.64 | $239,042
Interview | 69,500 | 1 | 1.000 | 69,500 | 14.64 | 1,017,480
Clinical Follow-up Certification | 90 | 1 | 1.000 | 90 | 14.64 | 1,318
Clinical Follow-up Interview | 1,500 | 1 | 1.000 | 1,500 | 14.64 | 21,960
Screening Verification | 5,560 | 1 | 0.067 | 373 | 14.64 | 5,461
Interview Verification | 10,425 | 1 | 0.067 | 698 | 14.64 | 10,219
TOTAL | 196,810 |  |  | 88,489 |  | $1,295,480

Written comments and recommendations concerning the proposed information collection should be sent by December 15, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: November 8, 2010.
Elaine Parry,
Director, Office of Management, Technology and Operations.

[FR Doc. 2010-28670 Filed 11-12-10; 8:45 am]

BILLING CODE 4162-20-P